DEPARTMENT OF THE INTERIOR

National Park Service

[NPS-WASO-0906-8347; 4840-0097-N81]

Proposed Information Collection; Comment Request: Shenandoah National Park Angler Survey

AGENCY: National Park Service (NPS), Interior.

ACTION: Notice; request for comments.

SUMMARY: We (National Park Service, Shenandoah National Park) will ask the Office of Management and Budget (OMB) to approve the information collection (IC) described below. To comply with the Paperwork Reduction Act of 1995 and as a part of our continuing efforts to reduce paperwork and respondent burden, we invite the general public and other Federal agencies to comment on this IC. We may not conduct or sponsor and a person is not required to respond to a collection unless it displays a currently valid OMB control number.

DATE: Please submit your comment on or before November 14, 2011.

ADDRESSES: Please send your comments to the IC to Phadrea Ponds, Information Collections Coordinator, National Park Service, 1201 Oakridge Drive, Fort Collins, CO 80525 (mail); or phadrea_ponds@nps.gov (e-mail). Please reference Information Collection 1024-NEW, SHEN-ANGLER.

FOR FURTHER INFORMATION CONTACT: Jeb Wofford by mail at Shenandoah National Park, 3655 U.S. HWY 211E, Luray, VA 22835 or Jeb_Wofford@nps.gov (e-mail). You are entitled to a copy of the entire IC package free-of-charge.

SUPPLEMENTARY INFORMATION: OMB Control Number: None. This is a new collection.

Title: Shenandoah National Park Angler Survey.

Type of Request: New.

Affected Public: General public.

Respondent's Obligation: Voluntary.

Frequency of Collection: One-time (spring, summer, and fall seasons).

Estimated Annual Number of Respondents: 500.

Estimated Total Annual Burden Hours: 83 hours.

Estimated Reporting and Recordkeeping “Non-Hour Cost” Burden: None

Abstract: Aquatic resources and recreational fishing played a large role in the establishment of Shenandoah National Park and fishing remains an important recreational activity. Nevertheless, relatively little is known about the angling public that enjoys Shenandoah. The objective of this collection is to educate park managers about the park's angling population and provide information on angling's potential effects on park resources. This project will inform park managers as well as provide the public an opportunity to offer the park their opinions about park aquatic resources and aquatic resource management. The information gathered through interviews and self-surveys will be used to assess current fisheries regulations and fish management in Shenandoah. The NPS may use the information to provide qualitative, quantitative, or graphical descriptions of a variety of angling statistics, including but not limited to angler use, satisfaction, and fish harvest. We will protect information from respondents considered proprietary under the Freedom of Information Act (5 U.S.C. 552) and implementing regulations (43 CFR part 2), and under regulations at 30 CFR 250.197, “Data and information to be made available to the public upon request for limited inspection.” Responses are voluntary and no questions of a “sensitive” nature will be asked.

Comments: We invite comments concerning this IC on: (1) Whether or not the collection of information is necessary, including whether or not the information will have practical utility; (2) the accuracy of our estimate of the burden for this collection of information; (3) ways to enhance the quality, utility, and clarity of the information to be collected; and (4) ways to minimize the burden of the collection of information on respondents.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: September 6, 2011.
Robert M. Gordon,
Information Collection Clearance Officer, National Park Service.

[FR Doc. 2011-23153 Filed 9-9-11; 8:45 am]

BILLING CODE 4312-52-P